ENVIRONMENTAL PROTECTION AGENCY

[EPA-HQ-OEI-2008-0469; FRL-8712-1]

Notification of Deletion of System of Records; OPP Time Accounting Information System (EPA-14)

AGENCY: Environmental Protection Agency (EPA).

ACTION: Privacy Act of 1974, notification of deletion of system of records OPP Time Accounting Information System (EPA-14).

SUMMARY: The Environmental Protection Agency is deleting systems of records OPP Time Accounting Information System (EPA-14). Published in the Federal Register published on February 22, 2002 (67 FR 8246-8264). Reason for deletion is OPP Time Accounting Information System is being integrated into the PRISM system and the sensitive personally identifiable information has been removed from the TAIS application.

DATES: This notice is effective immediately upon publication in the Federal Register.

FOR FURTHER INFORMATION CONTACT: Ms. Maryann Petrole, Chief, Financial Management and Planning Branch, Information Technology and Resources Management Division, Office of Pesticide Programs (7502P), Washington, DC 20460, telephone (703) 308-8685.

SUPPLEMENTARY INFORMATION:

I. General Information

How Can I Get Copies of This Document and Other Related Information?

EPA has established a docket for this action under Docket ID No. [EPA-HQ-OEI-2008-0469] copies of the available docket materials are available either electronically through http://www.regulations.gov or in hard copy at the Docket in the EPA Docket Center, (EPA/DC) EPA West, Room 3334, 1301 Constitution Ave., NW., Washington, DC. The EPA Docket Center Public Reading Room is open from 8:30 a.m. to 4:30 p.m., Monday through Friday, excluding legal holidays. The telephone number for the Public Reading Room is (202) 566-1744, and the telephone number for the OEI Docket is (202) 566-1752.

Electronic Access. You may access this Federal Register document electronically through the EPA Internet under the “Federal Register” listings at http://www.epa.gov/fedrgstr/.

Dated: August 12, 2008.
Molly A. O'Neill,
Assistant Administrator and Chief Information Officer.

[FR Doc. E8-20733 Filed 9-5-08; 8:45 am]

BILLING CODE 6560-50-P